DEPARTMENT OF LABOR

Employment and Training Administration

[TA-W-54,833]

Bayer Clothing Group, Inc., Clearfield, PA; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on June 3, 2004, applicable to workers of Bayer Clothing Group, Inc., Clearfield, Pennsylvania. The notice will be published soon in the Federal Register.

At the request of the State agency, the Department reviewed the certification for workers of the subject firm. The workers are engaged in the production of men's suits and pants.

New findings show that there was a previous certification, TA-W-40,516, issued on May 7, 2002, for workers of Bayer Clothing, Target Square Facility, Clearfield, Pennsylvania who were engaged in employment related to the production of men's suits and pants. That certification expired on May 7, 2004. To avoid an overlap in worker group coverage, the certification is being amended to change the impact date from May 3, 2003 to May 8, 2004, for workers of the subject firm.

The amended notice applicable to TA-W-54,833 is hereby issued as follows:

“All workers of Bayer Clothing Group, Inc., Clearfield, Pennsylvania, who became totally or partially separated from employment on or after May 8, 2004, through June 3, 2006, are eligible to apply for adjustment assistance under section 223 of the Trade Act of 1974, and are also eligible to apply for alternative trade adjustment assistance under section 246 of the Trade Act of 1974.”

Signed at Washington, DC this 14th day of June 2004.
Elliott S. Kushner,
Certifying Officer, Division of Trade Adjustment Assistance.

[FR Doc. 04-14786 Filed 6-29-04; 8:45 am]

BILLING CODE 4510-30-P